ENVIRONMENTAL PROTECTION AGENCY

40 CFR Part 63

[AD-FRL-6869-2]

RIN 2060-AJ09

National Emission Standards for Hazardous Air Pollutants: Aluminum Foundry and Aluminum Die Casting Operations; Source Category List

AGENCY: Environmental Protection Agency (EPA).

ACTION: Advance notice of proposed rule (ANPR).

SUMMARY: The Clean Air Act (CAA) requires EPA to list (for regulation under section 112 of the CAA) all categories of major sources of hazardous air pollutants (HAP) and categories of area sources if they present a threat of adverse effects to human health or the environment. We have recently promulgated national emission standards for hazardous air pollutants (NESHAP) for Secondary Aluminum Production, (65 FR 15690, March 23, 2000). This ANPR announces our intention to propose amendments to subpart RRR to remove aluminum foundries and aluminum die casting facilities from the Secondary Aluminum Production source category. As part of the same rulemaking, we intend to make a new determination concerning maximum achievable control technology (MACT) requirements for both major sources and area sources in these industries.

The EPA previously listed aluminum foundries and aluminum die casting facilities as part of the Secondary Aluminum Production source category and also listed area sources in these industries for regulation pursuant to CAA section 112(c)(6). Area sources are included in the NESHAP due to dioxin and furan emissions. We intend to make a new determination concerning MACT requirements deemed necessary and appropriate for all of these sources in the context of a new source category. Upon promulgation of a final rule removing these sources from subpart RRR and establishing separate MACT requirements for these sources. EPA will make conforming changes in the source category list. This ANPR solicits comments and information to be used in making a new determination concerning separate MACT requirements applicable to aluminum foundries and aluminum die casting facilities.

EFFECTIVE DATE: Comments. Comments must be received on or before October 16, 2000.

ADDRESSES: Comments. Comments should be submitted (in duplicate) to: Air and Radiation Docket and Information Center (6102), Attention: Docket No. A-2000-31, U.S. EPA, 1200 Pennsylvania Ave., NW, Washington, DC 20460.

Docket. Docket No. A-2000-31 is available for public inspection and copying from 8:00 a.m. to 5:30 p.m., Monday through Friday, at the EPA's Air and Radiation Docket and Information Center, Waterside Mall, Room M-1500, Ground Floor, 401 M Street SW, Washington, DC 20460. A reasonable fee may be charged for copying.

FOR FURTHER INFORMATION CONTACT: For information concerning this ANPR, contact Mr. Juan Santiago, Minerals and Inorganic Chemicals Group, Emission Standards Division (MD-13), U.S. EPA, Research Triangle Park, North Carolina 27711, (919) 541-1084, Santiago.Juan@EPA.gov.

SUPPLEMENTARY INFORMATION:

Electronic Submission of Comments

Comments may be submitted electronically by sending electronic mail (e-mail) to: a-and-r-docket@epamail.epa.gov. Electronic comments must be submitted as an ASCII file, avoiding the use of special characters and any form of encryption. Comments will also be accepted or diskette in Word Perfect 8.0 or ASCII file format. All comments in electronic form must be identified by the docket Number A-2000-31. No Confidential Business Information (CBI) should be submitted through e-mail. Electronic comments may be filed online at many Federal Depository Libraries.

Background

The CAA requires that EPA evaluate and control emissions of HAP. The control of HAP is achieved through promulgation of emission standards under section 112 of the CAA for sources that emit HAP. The CAA requires us to publish a list of all categories and subcategories of sources of HAP. We published an initial list of source categories on July 16, 1992 (57 FR 31576). This list was last revised on November 8, 1999 (63 FR 7155).

Secondary aluminum production facilities were listed as a source category emitting HAP in the initial list. Secondary aluminum production was defined in the EPA Report, “Documentation for Developing the Initial Source Category List” to include any facility engaged in the cleaning, melting, refining, alloying, and pouring of aluminum recovered from scrap, foundry returns, and dross. We subsequently listed all area sources in the Secondary Aluminum Production source category pursuant to our obligation to regulate facilities that account for at least ninety percent of the nationwide emissions of certain dioxins and furans as required by section 112(c)(6) of the CAA (63 FR 17838, 17849, April 20, 1998).

The EPA promulgated NESHAP for the Secondary Aluminum Production source category on March 23, 2000 (65 FR 15690). As promulgated, the NESHAP apply to major and area source aluminum foundries and aluminum die casting facilities, except for those facilities that melt no materials other than clean charge and materials generated within the facility and that also do not operate a thermal chip dryer, sweat furnace or scrap dryer/delacquering kiln/decoating kiln.

The EPA based the NESHAP for aluminum foundries and aluminum die casting facilities, as well as its assessment of the economic impacts on small businesses in these industry segments, on information pertaining to representative facility practices in these industry segments. We believed that the information in the record supporting our NESHAP for secondary aluminum production facilities was representative of the operations and range of emissions at aluminum die casting facilities and aluminum foundries and sufficient to support the MACT requirements we adopted in those standards for them, although we did not have emissions data on dioxin and furan emissions specifically measured at aluminum foundries and die casting facilities.

However, affected aluminum foundry operators and die casters have expressed the view that the information and assumptions upon which we relied when we promulgated the Secondary Aluminum Production NESHAP may be incomplete or may not adequately represent the processes and emissions at such facilities. Accordingly, EPA made a commitment as part of the NESHAP for the Secondary Aluminum Production source category to initiate a formal process to collect further information from the facilities in these industries on the activities in which they engage and the potential of these activities to contribute to HAP emissions. EPA also published that, after evaluating this information, it would make a new determination concerning MACT requirements for both major sources and area sources in these industries. EPA has since entered into a settlement agreement in American Foundrymen's Society, et al. v. EPA, Civ. No. 00-1208 (D.C. Cir.) that effectuates this commitment in the preamble to the NEWHAP for the Secondary Aluminum Production source category.

This ANPR announces that EPA intends to undertake a new rulemaking to remove aluminum foundries and aluminum die casting facilities from subpart RRR and to develop alternate MACT requirements for these sources in the context of a separate source category. We intend to collect further information from these facilities using our authority under CAA section 114 and to make new determination concerning the MACT floor and any MACT requirements deemed necessary and appropriate for these facilities based on this information. Our intention to proceed with this new rulemaking is expressly contingent on our ability to collect information concerning the processes employed at these facilities and the associated emissions, sufficient both to fully support establishment of a separate MACT floor for such facilities and to resolve any remaining questions regarding the practicality, cost, and efficacy of potential emission controls.

In a separate action published elsewhere in this Federal Register, EPA is proposing a rule to stay the applicability of 40 CFR part 63, subpart RRR (the Secondary Aluminum Production NESHAP) to existing aluminum foundries and existing aluminum die casting facilities during the pendency of the rulemaking to make a new determination concerning alternate MACT requirements for these facilities. We intend to take final action concerning this proposed stay at the same time as we propose to remove aluminum foundries and aluminum die casting facilities from subpart RRR and to adopt alternate MACT requirements deemed necessary and appropriate for these facilities.

We anticipate that any MACT requirements deemed necessary and appropriate for major and area source aluminum foundries and aluminum die casting facilities which are currently regulated by subpart RRR will be proposed and adopted in the context of a proposed new source category. Whereas the EPA must establish MACT standards for major sources, aluminum foundries and aluminum die casting facilities that are area sources may not require such standards if existing and new data support such a conclusion. The EPA will take final action on its proposal to remove such facilities from subpart RRR at the same time as it promulgates any new MACT requirements for such facilities. The EPA will then make any necessary conforming changes in the source category list.

Any proposed rule to adopt an alternative NESHAP for aluminum foundries and die casters will provide affected facilities with a reasonable amount of time after the effective date of the promulgated standards, and in no event less than one year, to come into compliance with the final standards. Aluminum foundries and die casters will also have a reasonable amount of time to come into compliance with the existing NESHAP for secondary aluminum production should EPA elect not to issue a proposed rule to remove aluminum foundries and die casters from 40 CFR part 63, subpart RRR.

This ANPR solicits comments and information pertaining to our intention to develop alternate MACT requirements for major sources and area sources in the aluminum foundry and aluminum die casting industries. We are seeking comment concerning our intent to remove these facilities from the Secondary Aluminum Production NESHAP and the advantages and disadvantages of regulating aluminum foundries and aluminum die casting facilities as a separate category.

The EPA is also seeking specific information pertaining to aluminum foundry and aluminum die casting processes and emissions which may be pertinent to evaluating the practicality, cost, and efficacy of alternate MACT requirements for such facilities. Such information includes descriptions of aluminum foundry and aluminum die casting processes; the types and quantities of contaminated (i.e., containing oils and coatings) scrap that is processed at these facilities; the number of facilities that process only clean materials (e.g., ingots) and use reactive fluxes in lower quantities than the major source threshold (10 tons per year (tpy) of any single HAP or 25 tpy of all HAP combined); the number of major sources of HAP emissions; the number of area sources; and the extent of emissions of dioxins and furans at major and area sources. We also seek information on the magnitude of HAP emissions and methods of HAP emission estimation, emission controls and their costs, and any existing State or local regulations for HAP that may apply to aluminum foundries and aluminum die casting facilities. We invite trade groups associated with aluminum foundries and aluminum die casting facilities to provide information and participate in the regulatory development process. As part of the information gathering process, EPA intends to issue an information collection request to the individual companies and plants which will seek site-specific information in these and other areas.

Administrative Requirements

Because this ANPR is not a rule or a proposed rule, the EPA has not prepared an economic impact analysis pursuant to section 317 of the CAA, a regulatory flexibility analysis pursuant to the Regulatory Flexibility Act, or a written statement under section 202 of the unfunded Mandates Act of 1995. Also, this ANPR does not contain any information collection requirements and, therefore, is not subject to the Paperwork Reduction Act.

Under Executive Order 12866 (58 FR 5173, October 4, 1993), the EPA must determine whether a regulatory action is “significant” and, therefore, subject to Office of Management and Budget (OMB) review and the requirements of the Executive Order. The Executive Order defines “significant regulatory action” as one that is likely to result in standards that may:

(1) Have an annual effect on the economy of $100 milliion or more or adversely affect, in a material way, the economy, a sector of the economy, productivity, competition, jobs, the environment, public health or safety, or State, local, or tribal governments or communities;

(2) Create a serious inconsistency or otherwise interfere with an action taken or planned by another agency;

(3) Materially alter the budgetary impact of entitlement, grants, user fees, or loan programs or the rights and obligations of recipients thereof; or

(4) Raise novel legal or policy issues arising out of legal mandates, the President's priorities, or the principles set forth in the Executive order.

OMB has determined that this proposed advance notice of proposed rulemaking is a “significant regulatory action” because of novel legal or policy reasons. As such, this action was submitted to OMB for review.

Dated: September 8, 2000.
Carol M. Browner,
Administrator.

[FR Doc. 00-23644 Filed 9-13-00; 8:45 am]

BILLING CODE 6560-50-M